DEPARTMENT OF COMMERCE

Economic Development Administration

[Docket No.: 110420251-1255-01]

The Jobs and Innovation Accelerator Challenge; a Coordinated Initiative To Advance Regional Competitiveness

AGENCY: Economic Development Administration (EDA), Department of Commerce.

ACTION: Notice.

SUMMARY: The Obama Administration announces the Jobs and Innovation Accelerator Challenge (Accelerator Challenge), an initiative of 16 Federal agencies and bureaus to accelerate innovation-fueled job creation and economic prosperity through public-private partnerships. The Accelerator Challenge will offer, subject to the availability of funds, a combination of $33 million in funding from three agencies and technical assistance resources from 13 additional agencies and bureaus to support customized solutions for approximately 20 competitively selected industry clusters in urban and rural regions across the nation and across all sectors. A competitive solicitation is expected to be announced in May 2011.

President Obama has prioritized the development of strong regions ¹ as the building blocks of a strong and globally competitive American economy and as key elements in our strategy for winning the future. Understanding that jobs are not created on Capitol Hill but in America's regions, the Obama Administration is committed to smarter use of existing Federal resources to support regional innovation and sustainable economic prosperity. Knowing that regional innovation clusters provide a globally proven approach for developing economic prosperity, this new, multi-agency initiative creates an unprecedented platform for integrating and coordinating the wide range of Federal economic development resources.

¹ Including rural, urban and multijurisdictional areas.

Each Accelerator Challenge investment will serve as a catalyst for leveraging private capital in the regions from an array of sources such as foundations, financial institutions, corporations and other private sector partners. Through its unprecedented linking, aligning and leveraging of Federal resources and by building strategic public-private partnerships, the Accelerator Challenge will foster broad regional innovation, job creation, and global competitiveness.

Funds awarded to the winning applicants can be used to support and accelerate a range of measurable outcomes, including innovation, commercialization, business formation and expansion, development of a skilled workforce, job creation, exports, sustainable economic development and global competitiveness in approximately 20 industry clusters that exhibit high-growth development potential. These successful clusters will promote growth that is inclusive of the region's population.

This initiative represents the implementation of a number of Obama Administration policy priorities including:

• Acceleration of bottom-up innovation strategies encompassing urban and rural geographies, as opposed to imposing “one size fits all” solutions from Washington; and

• Reduction of Federal programs silos and promotion of more coordinated Federal funding opportunities that offer a more efficient system for customers to access Federal resources.

The partner agencies and bureaus include: Department of Commerce (EDA, National Institute for Standards and Technology (NIST), International Trade Administration (ITA), and Minority Business Development Agency (MBDA)); Department of Labor (Employment and Training Administration (ETA)); Small Business Administration (SBA); Department of Education (ED); Department of Agriculture (USDA); Environmental Protection Agency (EPA); National Science Foundation (NSF); Department of Transportation (DOT); Department of Health and Human Services (HHS); Department of the Treasury (TREAS); Department of Housing and Urban Development (HUD); and Department of Energy (DOE).

Subject to funding availability, the total proposed funding for the Accelerator Challenge is approximately $33 million in direct Federal support from the three funding agencies and bureaus: EDA, ETA, and SBA. Specific funding sources will be named in the forthcoming FFO.

Clusters selected for funding may receive specialized technical assistance or other resources from partner agencies and bureaus, which will offer this assistance from existing programs and initiatives. These resources include Federally funded assets that can be leveraged by the clusters and entities that are available for collaborative partnerships to strengthen the clusters.

Applicants will be asked to discuss several components of their cluster. They will be evaluated against criteria that include: evidence of a high-growth cluster; the cluster's needs and opportunities; a proposed project concept and scope of work; and the projected impact and measurable outcomes. Outcomes might include how Federal funds will be used to:

• Achieve sustainable economic growth in the region;

• Augment business formation, especially small businesses, and leverage existing businesses and manufacturing assets;

• Advance commercialization of Federal and private research and increase exports;

• Develop a skilled workforce through outreach, training, and the creation of career pathways; and

• Integrate historically underserved businesses and communities into the economic activities of the cluster.

For more information please visit http://www.eda.gov/InvestmentsGrants/jobsandinnovationchallenge.

Dated: April 22, 2011.
Barry E. A. Johnson,
Senior Advisor and Director of Strategic Initiatives, Economic Development Administration.

[FR Doc. 2011-10231 Filed 4-26-11; 8:45 am]

BILLING CODE 3510-24-P